DEPARTMENT OF COMMERCE

Census Bureau

[Docket Number: 250326-0053; RTID 0607-XC082]

Current Mandatory Business Surveys

AGENCY: Census Bureau, Department of Commerce.

ACTION: Notice of determination.

SUMMARY: The Bureau of the Census (Census Bureau) will conduct the following current four mandatory business surveys in 2025: Annual Integrated Economic Survey; Annual Business Survey; Business and Professional Classification Report; and Business Enterprise Research and Development Survey. We have determined that data collected from these surveys are needed to aid the efficient performance of essential governmental functions and have significant application to the needs of the public and industry. The data derived from these surveys, most of which have been conducted for many years, are not publicly available from nongovernmental or other governmental sources.

DATES: The Annual Integrated Economic Survey is typically mailed starting in February each year. The Annual Business Survey is typically mailed starting in July each year. The Business and Professional Classification Report is typically mailed out at the beginning of each calendar quarter. The Business Enterprise Research and Development Survey is typically mailed starting in February each year.

ADDRESSES: The Census Bureau will make available the reporting instructions to the organizations included in the surveys. Respondent information for the Annual Integrated Economic Survey can be found at: https://www.census.gov/programs-surveys/aies/information.html. Respondent information for the Annual Business Survey can be found at: https://www.census.gov/programs-surveys/abs/information.html. Respondent information for the Business and Professional Classification Report can be found at: https://www.census.gov/programs-surveys/sq-class/information.html. Respondent information for the Business Enterprise Research and Development Survey can be found at: https://www.census.gov/programs-surveys/brds/information.html. Additional copies are available upon written request to the Director, 4600 Silver Hill Road, U.S. Census Bureau, Washington, DC 20233-0101.

FOR FURTHER INFORMATION CONTACT: Nick Orsini, Associate Director for Economic Programs, Telephone: 301-763-1858; Email: Nick.Orsini@census.gov.

SUPPLEMENTARY INFORMATION: The following four surveys described herein are authorized by 13 U.S.C. 131 and 182 and are necessary to furnish current data on the subjects covered by the major censuses: (1) Annual Integrated Economic Survey (AIES); (2) Annual Business Survey (ABS); (3) Business and Professional Classification Report; and (4) Business Enterprise Research and Development Survey (BERD). These surveys are made mandatory under the provisions of 13 U.S.C. 224-225. These surveys will provide continuing and timely national statistical data for the period between economic censuses. The data collected in the surveys will be within the general scope and nature of those inquiries covered in the economic census. The most recent economic census was conducted in 2023 for the reference year 2022. The next economic census will occur in 2028 for the reference year 2027.

Notice of specific reporting requirements for each survey, including who is to report, the information to be reported, the manner of reporting, and the time and place of filing reports, will be provided by mail or by email only to those required to complete these surveys.

Annual Integrated Economic Survey (AIES)

The AIES collects data on key economic measures including: employment; revenue (e.g., sales, shipments, and receipts; taxes, contributions, gifts, and grants); products; e-commerce activity; operating expenses (e.g., payroll, benefits, and purchased services); and rental payments, utilities, interest, equipment, materials, and supplies. Additionally, AIES captures information on business assets, covering capital expenditures, inventories, depreciable assets, and robotics. The survey's sample is drawn from a frame of approximately 5.4 million businesses, built using the Census Bureau's Business Register (BR), which is the Census Bureau's master business list.

The AIES delivers timely and continuous national and subnational economic statistics, serving as a valuable resource for government program officials, industry leaders, economists, business owners, and researchers across academia, business, and government.

More information regarding the AIES can be found in the Information Collection Request (ICR) approved by the Office of Management and Budget (OMB) on January 15, 2025, at the following link: https://www.reginfo.gov/public/do/PRAViewICR?ref_nbr=202411-0607-003.

Annual Business Survey (ABS)

The ABS provides information on selected economic and demographic characteristics for businesses and business owners by sex, ethnicity, race, and veteran status. Further, the survey measures research and development for microbusinesses, new business topics such as innovation and technology, as well as other business characteristics such as types of customers, number and types of employees, and sales and revenues. The ABS includes all nonfarm employer businesses filing Internal Revenue Service (IRS) tax forms as individual proprietorships, partnerships, or any other type of corporation, with receipts of $1,000 or more. The ABS is co-sponsored by the National Center for Science and Engineering Statistics (NCSES) within the National Science Foundation (NSF) and conducted by the Census Bureau.

More information regarding the ABS can be found in the ICR approved by OMB on May 15, 2024, at: https://www.reginfo.gov/public/do/PRAViewICR?ref_nbr=202401-0607-002.

Business and Professional Classification Report

The Business and Professional Classification Report collects one-time data on a firm's type of business activity from a sample of businesses that were recently assigned Federal Employer Identification Numbers or recently added to the scope of the Census Bureau's current business surveys. The data are used to update the sampling frames for our current business surveys. Additionally, the business classification data will help ensure businesses are directed to complete the correct report in the economic census.

More information regarding the Business and Professional Classification Report can be found in the ICR approved by OMB on August 15, 2024, at: https://www.reginfo.gov/public/do/PRAViewICR?ref_nbr=202405-0607-003.

Business Enterprise Research and Development Survey (BERD)

The BERD collects annual data on spending for research and development activities by businesses. The BERD collects foreign as well as domestic spending information, more detailed information about the R&D workforce, and information regarding intellectual property from U.S. businesses. The Census Bureau collects and compiles this information in accordance with a joint project agreement between the NSF and the Census Bureau. The NSF posts the BERD information results on their website.

More information regarding the BERD can be found in the ICR approved by OMB on December 6, 2024, at: https://www.reginfo.gov/public/do/PRAViewICR?ref_nbr=202409-0607-004.

Paperwork Reduction Act

Notwithstanding any other provision of law, no person is required to respond to, nor shall a person be subject to a penalty for failure to comply with, a collection of information subject to the requirements of the Paperwork Reduction Act (PRA) (44 U.S.C. 3501 et seq.) unless that collection of information displays a currently valid OMB control number. In accordance with the PRA OMB approved the surveys described in this notice under the following OMB control numbers: AIES, 0607-1024; ABS, 0607-1004; Business and Professional Classification Report, 0607-0189; and BERD, 0607-0912.

Based upon the foregoing, I have directed that the current mandatory business surveys be conducted in 2025 for the purpose of collecting these data.

Ron Jarmin, Acting Director, Census Bureau, approved the publication of this notice in the Federal Register.

Dated: March 31, 2025.
Shannon Wink,
Program Analyst, Policy Coordination Office, U.S. Census Bureau.

[FR Doc. 2025-05843 Filed 4-3-25; 8:45 am]

BILLING CODE 3510-07-P